DEPARTMENT OF ENERGY

Federal Energy Regulatory Commission

[Docket No. ER01-256-002, et al.]

American Electric Power Service Corporation, et al.; Electric Rate and Corporate Regulation Filings

February 1, 2001.

Take notice that the following filings have been made with the Commission:

1. American Electric Power Service Corporation

[Docket No. ER01-256-002]

Take notice that on January 29, 2001, American Electric Power Service Corporation tendered for filing, on behalf of the operating companies of the American Electric Power System, proposed amendments to the Open Access Transmission Tariff, in compliance with the Commission's December 29, 2000 Order Accepting for Filing, as Modified, Revisions to Open Access Transmission Tariff.

AEP requests an effective date of January 1, 2001.

Copies of AEP's filing have been served upon AEP's transmission customers and the public service commissions of Arkansas, Indiana, Kentucky, Louisiana, Michigan, Ohio, Tennessee, Texas, Virginia and West Virginia and the Oklahoma Corporation Commission.

Comment date: February 20, 2001, in accordance with Standard Paragraph E at the end of this notice.

2. The Dayton Power and Light Company

[Docket No. ER01-317-002]

Take notice that on January 29, 2001, The Dayton Power and Light Company (DP&L) tendered for filing tariff sheets in compliance with the “Order Accepting For Filing Proposed Tariff Revisions, As Modified,” issued by the Commission on December 29, 2000 in Docket No. ER01-317-000.

Copies of this filing were served upon DPL Energy Resources and the Public Utilities Commission of Ohio.

Comment date: February 20, 2001, in accordance with Standard Paragraph E at the end of this notice.

3. Central Maine Power Company

[Docket No. ER01-1074-000]

Take notice that on January 29, 2001, Central Maine Power Company (CMP), tendered for filing as an initial rate schedule pursuant to Section 35.12 of the Federal Energy Regulatory Commission's (the Commission) regulations, 18 CFR 35.12, an executed interconnection agreement (the Agreement) between CMP and Greenville Steam Company (Greenville).

The Agreement is intended to replace the Purchased Power Agreement between the parties, which expired on December 31, 2000. As such, CMP is requesting that the Agreement become effective January 1, 2001.

Copies of this filing have been served upon the Commission, the Maine Public Utilities Commission, and Greenville.

Comment date: February 20, 2001, in accordance with Standard Paragraph E at the end of this notice.

4. Valley Electric Association, Inc.

[Docket No. ER01-1075-000]

Take notice that on January 29, 2001, Valley Electric Association, Inc. tendered for filing with the Federal Energy Regulatory Commission (Commission), an open access transmission tariff and accompanying rates.

Comment date: February 20, 2001, in accordance with Standard Paragraph E at the end of this notice.

5. Idaho Power Company

[Docket No. ER01-1076-000]

Take notice that on January 29, 2001, Idaho Power Company (IPC) tendered for filing with the Federal Energy Regulatory Commission a Service Agreement for Firm and Non-Firm Point-to-Point Transmission Service between Idaho Power Company and Pacific Northwest Generating Cooperative.

Comment date: February 20, 2001, in accordance with Standard Paragraph E at the end of this notice.

6. Avista Energy, Inc.

[Docket No. ER01-1077-000]

Take notice that on January 29, 2001, Avista Energy, Inc. (Avista) filed a notice of termination pursuant to Section 18.3 of the California Power Exchange Corporation (PX) FERC Electric Service Tariff No. 2 (PX Tariff) to be effective immediately, relating to Avista's termination of its Participation Agreement with the PX.

Comment date: February 20, 2001, in accordance with Standard Paragraph E at the end of this notice.

7. Georges Colliers, Inc.

[Docket No. ER01-1078-000]

Take notice that on January 29, 2001, Georges Colliers, Inc. (GCI) petitioned the Commission for acceptance of GCI Rate Schedule FERC No. 1; the granting of certain blanket approvals, including the authority to sell electricity at market-based rates; and the waiver of certain Commission regulations.

GCI intends to engage in wholesale electric power and energy purchases and sales as a marketer. GCI is not in the business of generating or transmitting electric power. GCI is a privately owned corporation involved in coal production and the marketing of electricity.

Comment date: February 20, 2001, in accordance with Standard Paragraph E at the end of this notice.

8. New England Power Company

[Docket No. ER01-1079-000]

Take notice that on January 29, 2001, New England Power Company (NEP) submitted for filing a service agreement between NEP and PG&E Energy Trading—Power, L.P. (PGE&T) for service under NEP's Wholesale Market Tariff, FERC Electric Tariff, Original Volume No. 10.

Copies of the filing were served upon PGE&T and the Department of Public Utilities of the Commonwealth of Massachusetts.

Comment date: February 20, 2001, in accordance with Standard Paragraph E at the end of this notice.

9. Allegheny Energy Service Corporation, on Behalf of Monongahela Power Company, The Potomac Edison Company, and West Penn Power Company (Allegheny Power)

[Docket No. ER01-1080-000]

Take notice that on January 29, 2001 Allegheny Energy Service Corporation on behalf of Monongahela Power Company, The Potomac Edison Company and West Penn Power Company (Allegheny Power), filed Service Agreement No. 338 to add AEP Ohio Commercial & Industrial Retail Company, LLC to Allegheny Power's Open Access Transmission Service Tariff.

The proposed effective date under the agreement is January 26, 2001.

Copies of the filing have been provided to the Public Utilities Commission of Ohio, the Pennsylvania Public Utility Commission, the Maryland Public Service Commission, the Virginia State Corporation Commission, and the West Virginia Public Service Commission.

Comment date: February 20, 2001, in accordance with Standard Paragraph E at the end of this notice.

10. American Transmission Company LLC

[Docket No. ER01-1081-000]

Take notice that on January 29, 2001, American Transmission Company LLC (ATCLLC) tendered for filing a Network Operating Agreement and a Network Integration Service Agreement for The Village of Pardeeville and Oconto Falls Water & Light Commission.

ATCLLC requests an effective date of January 1, 2001.

Comment date: February 20, 2001, in accordance with Standard Paragraph E at the end of this notice.

11. American Electric Power Service Corporation

[Docket No. ER01-1082-000]

Take notice that on January 29, 2001, the American Electric Power Service Corporation (AEPSC), tendered for filing three executed Network Integration Transmission Service (NTS) Agreements pursuant to the AEP Companies' Open Access Transmission Service Tariff (OATT). The OATT has been designated as the Operating Companies of the American Electric Power System FERC Electric Tariff, Second Revised Volume No. 6. The Agreements provide Network Integration Transmission Service for delivery of energy supplies to Consumers participating in retail supplier choice programs.

A copy of the filing was served upon the Parties and the state utility regulatory commissions of Arkansas, Indiana, Kentucky, Louisiana, Michigan, Ohio, Oklahoma, Tennessee, Texas, Virginia and West Virginia.

12. Southern Company Services, Inc.

[Docket No. ER01-1083-000]

Take notice that on January 29, 2001, Southern Company Services, Inc., acting on behalf of Alabama Power Company (APC), filed an Interconnection Agreement (IA) by and between APC and Caledonia Generating, LLC (Caledonia). The IA allows Caledonia to interconnect its generating facility to be located in Lowndes County, Mississippi to APC's electric system.

An effective date of January 29, 2001 has been requested.

Comment date: February 20, 2001, in accordance with Standard Paragraph E at the end of this notice.

13. Louisville Gas And Electric Company/Kentucky Utilities Company

[Docket No. ER01-1084-000]

Take notice that on January 29, 2001, Louisville Gas and Electric Company (LG&E)/Kentucky Utilities (KU) (hereinafter Companies) tendered for filing executed transmission service agreement with LG&E Energy Marketing, Inc. The agreement allows LG&E Energy Marketing, Inc. to take firm point-to-point transmission service from LG&E/KU. The point of receipt is Big Rivers Electric Cooperative (BREC) and the point of delivery is American Electric Power (AEP).

Comment date: February 20, 2001, in accordance with Standard Paragraph E at the end of this notice.

14. Illinois Power Company

[Docket No. ER01-1085-000]

Take notice that on January 29, 2001, Illinois Power Company (Illinois Power), 500 South 27th Street, Decatur, Illinois 65251-2200, filed with the Commission a Service Agreement for Network Integration Transmission Service and a Network Operating Agreement entered into with Dynegy Power Marketing, Incorporated (DPM) pursuant to Illinois Power's Open Access Transmission Tariff.

Illinois Power requests an effective date of January 1, 2001 for the Agreements and accordingly seeks a waiver of the Commission's notice requirement.

Illinois Power states that a copy of this filing has been sent to DPM.

Comment date: February 20, 2001, in accordance with Standard Paragraph E at the end of this notice.

15. Allegheny Energy Service Corporation, on behalf of Monongahela Power Company, The Potomac Edison Company, and West Penn Power Company (Allegheny Power)

[Docket No. ER01-1086-000]

Take notice that on January 29, 2001, 2001 Allegheny Energy Service Corporation on behalf of Monongahela Power Company, The Potomac Edison Company and West Penn Power Company (Allegheny Power), filed Service Agreement No. 337 to add AEP Ohio Retail Energy, LLC to Allegheny Power's Open Access Transmission Service Tariff.

The proposed effective date under the agreement is January 26, 2001.

Copies of the filing have been provided to the Public Utilities Commission of Ohio, the Pennsylvania Public Utility Commission, the Maryland Public Service Commission, the Virginia State Corporation Commission, and the West Virginia Public Service Commission.

Comment date: February 20, 2001, in accordance with Standard Paragraph E at the end of this notice.

16. Xcel Energy Operating Companies Northern States Power Company (Minnesota) Northern States Power Company (Wisconsin)

[Docket No. ER01-1087-000]

Take notice that on January 29, 2001, Northern States Power Company and Northern States Power Company (Wisconsin) (jointly NSP Companies), wholly owned utility operating company subsidiaries of Xcel Energy Inc., tendered for filing seven Firm Point-to-Point Transmission Service Agreements (Agreements) between the NSP Companies and NSP Energy Marketing. The NSP Companies propose the Agreements be included in the Xcel Energy Operating Companies FERC Joint Open Access Transmission Tariff, Original Volume No. 2, as Service Agreement Nos. 180-NSP, 181-NSP, 182-NSP, 183-NSP, 184-NSP, 185-NSP, and 186-NSP, pursuant to Order No. 614. The NSP Companies also submit Seventh Revised Sheet No. 1 (Table of Contents) to the Joint OATT, Original Volume 2, to reflect inclusion of the Agreements.

The NSP Companies request that the Commission accept the Agreements and Seventh Revised Sheet No. 1 effective January 1, 2001.

Comment date: February 20, 2001, in accordance with Standard Paragraph E at the end of this notice.

17. American Transmission Company LLC

[Docket No. ER01-1088-000]

Take notice that on January 29, 2001, American Transmission Company LLC (ATCLLC) tendered for filing a Generator Interconnection Agreement between ATCLLC, Badger Windpower, LLC and Alliant Energy Corporate Services, Inc.

ATCLLC requests an effective date of February 12, 2001.

Comment date: February 20, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 01-3222 Filed 2-7-01; 8:45 am]

BILLING CODE 6717-01-P